DEPARTMENT OF COMMERCE

International Trade Administration

University of Pittsburgh, et al.; Notice of Consolidated Decision on Applications for Duty-Free Entry of Electron Microscopes

This is a decision consolidated pursuant to Section 6(c) of the Educational, Scientific, and Cultural Materials Importation Act of 1966 (Pub. L. 89-651, as amended by Public Law 106-36; 80 Stat. 897; 15 CFR part 301). Related records can be viewed between 8:30 a.m. and 5 p.m. in Room 3720, U.S. Department of Commerce, 14th and Constitution Avenue., NW. Washington, DC.

Docket Number: 09-069. Applicant: University of Pittsburgh, Pittsburgh, PA 15260. Instrument: Electron Microscope.

Manufacturer: JEOL, Ltd., Japan. Intended Use: See notice at 75 FR 3895, January 25, 2010.

Docket Number: 09-070. Applicant: Haverford College, Haverford, PA 19041. Instrument: JEM-1400 Electron Microscope.

Manufacturer: JEOL Ltd., Japan. Intended Use: See notice at 75 FR 3895, January 25, 2010.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: February 26, 2010.
Christopher Cassel,
Director, Subsidies Enforcement Office, Import Administration.

[FR Doc. 2010-4600 Filed 3-3-10; 8:45 am]

BILLING CODE 3510-DS-P